DEPARTMENT OF TRANSPORTATION

Office of the Secretary

Notice of Applications for Certificates of Public Convenience and Necessity and Foreign Air Carrier Permits Filed Under Subpart B (Formerly Subpart Q) During the Week Ending November 17, 2006

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-26387.

Date Filed: November 15, 2006.

Due Date for Answers, Conforming Applications, or Motion to Modify Scope:December 6, 2006.

Description: Application of American Airlines, Inc. requesting an exemption and a certificate of, public convenience and necessity authorizing scheduled foreign air transportation of, persons, property and mail between Miami, Florida and Valencia, Venezuela.

Docket Number: OST-1995-546.

Date Filed: November 15, 2006.

Due Date for Answers, Conforming Applications, or Motion to Modify Scope:December 6, 2006.

Description: Application of Bahamasair Holdings Limited further amending its pending application, for renewal and amendment of its foreign air carrier permit specifically requesting to, engage in scheduled foreign air transportation of persons, property and mail between, a point or points in The Bahamas and a point or points in the United States, rather than, between The Bahamas and specific U.S. points.

Renee V. Wright,
Program Manager, Docket Operations, Federal Register Liaison.

[FR Doc. E6-20653 Filed 12-5-06; 8:45 am]

BILLING CODE 4910-9X-P